DEPARTMENT OF COMMERCE

[Docket No. 150817729-5729-01]

Privacy Act of 1974; Amended System of Records

AGENCY: National Oceanic and Atmospheric Administration, U.S. Department of Commerce.

ACTION: Notice of Proposed Amendment to Privacy Act System of Records: COMMERCE/NOAA-14, Dr. Nancy Foster Scholarship Program.

SUMMARY: In accordance with the Privacy Act of 1974, as amended, 5 U.S.C. 552a(e)(4) and (11), the Department of Commerce proposes to amend the system of records entitled “COMMERCE/NOAA-14, Dr. Nancy Foster Scholarship Program” to update the routine uses to include (1) disclosure for breach notifications, (2) disclosure to the appropriate agency (whether Federal, state, local, or foreign) for law enforcement purposes, (3) disclosure to the medical advisor if disclosure to the individual could have an adverse effect upon the individual, (4) disclosure pursuant to an Office of Management and Budget (OMB) request in connection to private relief legislation as set forth in OMB Circular No. A-19, and (5) disclosure to a contractor of the Department having need for the information in performance of the contract; and to change the system name to “Dr. Nancy Foster Scholarship Program; Office of Education, Educational Partnership Program (EPP); Ernest F. Hollings Undergraduate Scholarship Program and National Marine Fisheries Service Recruitment, Training, and Research Program.” We invite public comment on the amended information collection announced in this publication.

DATES: To be considered, written comments must be submitted on or before October 19, 2015. Unless comments are received, the new system of records will become effective as proposed on the date of publication of a subsequent notice in the Federal Register.

ADDRESSES: Comments may be mailed to:

Program Administrator, Dr. Nancy Foster Scholarship Program, National Ocean Service, Office of the Assistant Administrator, 1305 East-West Highway, 13th Floor, Silver Spring, MD 20910-3281.

Deputy Director of NOAA Education, Educational Partnership Program and Ernest F. Hollings Undergraduate Scholarship Program, Office of Education, 1315 East-West Highway, 10th Floor, Silver Spring, MD 20910-3281.

Administrative Assistant, Mendy Willis, National Marine Fisheries Service Recruitment, Training, Research Program at the University of Florida, P.O. Box 110240, Gainesville, FL 32611.

FOR FURTHER INFORMATION CONTACT: Program Administrator, Dr. Nancy Foster Scholarship Program, National Ocean Service, Office of the Assistant Administrator, 1305 East-West Highway, 13th Floor, Silver Spring, MD 20910-3281.

Deputy Director of NOAA Education, Educational Partnership Program and Ernest F. Hollings Undergraduate Scholarship Program, Office of Education, 1315 East-West Highway, 10th Floor, Silver Spring, MD 20910-3281.

Administrative Assistant, Mendy Willis, National Marine Fisheries Service Recruitment, Training, Research Program at the University of Florida, P.O. Box 110240, Gainesville, FL 32611.

SUPPLEMENTARY INFORMATION: The purpose of this amendment is to add information on the Ernest F. Hollings Undergraduate Scholarship Program; Educational Partnership Program's (EPP)—Undergraduate Scholarship Program, Graduate Sciences Program, Cooperative Science Centers, and Environmental Entrepreneurship Program and the (NMFS)—Recruiting, Training, and Research Program alumni form to this information collection. Recently, the Dr. Nancy Foster Scholarship Program's alumni form, and this NMFS alumni form became part of the EPP's information collection under the Paperwork Reduction Act (PRA) approved under OMB Control No. 0648-0568. Because these information collections are associated under the PRA, to the information collected should be maintained in the same system of records.

Additionally, the purpose of this amendment is to update the routine uses for this system of records as follows: (a) Add routine uses that were not included in the original notice, published in the Federal Register on the October 17, 2002 (67 FR 64085-64086); and (b) add the breach notification routine use, published in the Federal Register on August 10, 2007 (72 FR 45009-45010), for all Department systems of records.

Authority: National Marine Sanctuaries Amendments Act of 2000 (Pub. L. 106-513 sec. 318); Section 4002 of the America Creating Opportunities to Meaningfully Promote Excellence in Technology, Education, and Science (COMPETES) Act (Public Law 110-69). Under Appendix I to OMB Circular No. A-130, para. 3a(8), we are required to conduct biennial reviews of SORNs and update them as needed.

COMMERCE/NOAA-14

SYSTEM NAME:

COMMERCE/NOAA-14, Dr. Nancy Foster Scholarship Program; Office of Education, Educational Partnership Program (EPP); Ernest F. Hollings Undergraduate Scholarship Program and National Marine Fisheries Service Recruitment, Training, and Research Program.

SECURITY CLASSIFICATION:

Moderate.

SYSTEM LOCATION:

a. The National Ocean Service, Office of the Assistant Administrator, 1305 East-West Highway, 13th Floor, Silver Spring, MD 20910-3281.

b. NOAA Office of the Chief Information Officer, 1315 East-West Highway, 9th Floor, Silver Spring, MD 20910-3281.

c. The National Marine Fisheries Service Recruitment, Training, and Research Program at the University of Florida, P.O. Box 110240, Gainesville, FL 32611 (database only, not associated with a system).

CATEGORIES OF INDIVIDUALS COVERED BY THE SYSTEM:

Scholarship applicants; recipients of scholarship awards; and alumni, who are scholarship recipients that have completed their studies under the Dr. Nancy Foster or EPP scholarship programs.

CATAGORIES OF RECORDS IN THE SYSTEM:

Application packages, including: General Information Sheet (name, citizenship, current school, grade point average, major field of study, year of study, current and permanent address, telephone number, and email address, extracurricular activities, school honors and awards, non-academic work and volunteer activities, essay on college education plan and career goals), Statement of Intent, Institute Certification, Transcripts, and Letters of Recommendation; Annual Progress Reports; Tuition Statements and Receipts.

Student tracking information: Name, citizenship, funding, area of study, performance, activities, publications.

Alumni information: Scholarship program name; general information (last name, first name, email address, program completion dates, last name if different from last name while in program, graduation date, optional—gender, race/ethnicity); post educational information (institution name, institution state, degree field of study and area of discipline); current employment information (occupation, field of work, area of work and industry sector).

AUTHORITY FOR MAINTENANCE OF THE SYSTEM:

National Marine Sanctuaries Amendments Act of 2000 (Pub. L. 106-513 sec. 318).The Administrator of the National Oceanic and Atmospheric Administration (NOAA) is authorized by Section 4002 of the America Creating Opportunities to Meaningfully Promote Excellence in Technology, Education, and Science (COMPETES) Act, Public Law 110-69, to establish and administer education programs such as the Educational Partnership Program (EPP) Graduate Sciences Program and EPP Undergraduate Scholarship Program to enhance the understanding of ocean, coastal, Great Lakes, and atmospheric science and stewardship to the general public and other coastal stakeholders, including groups underrepresented in the ocean and atmospheric sciences and in policy careers.

PURPOSES:

Records will be used to track scholarship recipients' academic progress, to make annual financial awards, and to track scholarship recipients' graduate studies and career progress.

ROUTINE USES OF RECORDS MAINTAINED IN THE SYSTEM, INCLUDING CATEGORIES OF USERS AND PURPOSES OF SUCH USES:

1. In the event that a system or records maintained by the Department to carry out its functions indicates a violation or potential violation of law or contract, whether civil, criminal or regulatory in nature, and whether arising by general statute or particular program statute or contract, or rule, regulation, or order issued pursuant thereto, or the necessity to protect an interest of the Department, the relevant records in the system of records may be referred, as a routine use, to the appropriate agency, whether Federal, state, local or foreign, charged with the responsibility of investigating or prosecuting such violation or charged with enforcing or implementing the statute or contract, or rule, regulation or order issued pursuant thereto, or protecting the interest of the Department.

2. A record from this system of records may be disclosed to a Federal, state or local agency maintaining civil, criminal or other relevant enforcement information, or other pertinent information, such as current licenses, if necessary to obtain information relevant to a Department decision concerning the assignment, hiring or retention of an individual, the issuance of a security clearance, the letting of a contract, or the issuance of a license, grant, or other benefit.

3. A record from this system of records may be disclosed to a Federal, state, local, or international agency, in response to its request, in connection with the assignment, hiring, or retention of an individual, the issuance of a security clearance, the reporting of an investigation of an individual, the letting of a contract, or the issuance of a license, grant, or other benefit by the requesting agency, to the extent that the information is relevant and necessary to the requesting agency's decision on the matter.

4. A record from this system of records may be disclosed in the course of presenting evidence to a court, magistrate, or administrative tribunal, including disclosures to opposing counsel in the course of settlement negotiations.

5. A record in this system of records may be disclosed to a Member of Congress submitting a request involving an individual when the individual has requested assistance from the Member with respect to the subject matter of the record.

6. A record in this system of records which contains medical information may be disclosed, as a routine use, to the medical advisor of any individual submitting a request for access to the record under the Act and 15 CFR part 4b if, in the sole judgment of the Department, disclosure to the individual could have an adverse effect upon the individual, under the provision of 5 U.S.C. 552a(f)(3) and implementing regulations at 15 CFR 4b.6.

7. A record in this system of records may be disclosed to the Department of Justice in connection with determining whether disclosure thereof is required by the Freedom of Information Act (5 U.S.C. 552).

8. A record in this system may be transferred to the Office of Personnel Management or to the National Science Foundation, National Center for Science and Engineering Statistics (NCSES) or to an evaluation contractor for personnel research purposes, as a data source for management information; for the production of summary descriptive statistics and analytical studies in support of the function for which the records are collected and maintained; or for related manpower studies.

9. A record from this system of records may be disclosed to the Administrator, General Services Administration (GSA), or his designee, during an inspection of records conducted by GSA as part of that agency's responsibility to recommend improvements in records management practices and programs, under authority of 44 U.S.C. 2904 and 2906. Such disclosure shall be made in accordance with the GSA regulations governing inspection of records for this purpose and any other relevant (i.e. GSA or Commerce) directive. Such disclosure shall not be used to make determinations about individuals.

10. A record in this system of records may be disclosed, as a routine use, to the Office of Management and Budget in connection with the review of private relief legislation as set forth in OMB Circular No. A-19 at any stage of the legislative coordination and clearance process as set forth in that Circular.

11. A record in this system of records may be disclosed, as a routine use, to a contractor of the Department having need for the information in the performance of the contract, but not operating a system of records within the meaning of 5 U.S.C. 552a(m).

12. A record in this system of records may be disclosed to appropriate agencies, entities and persons when (1) it is suspected or determined that the security or confidentiality of information in the system of records has been compromised; (2) the Department has determined that as a result of the suspected or confirmed compromise there is a risk of harm to economic or property interests, identity theft or fraud, or harm to the security or integrity of this system or whether systems or programs (whether maintained by the Department or another agency or entity) that rely upon the compromised information; and (3) the disclosure made to such agencies, entities, and persons is reasonably necessary to assist in connection with the Department's efforts to respond to the suspected or confirmed compromise and to prevent, minimize, or remedy such harm.

DISCLOSURE TO CONSUMER REPORTING AGENCIES:

Not applicable.

POLICIES AND PRACTICES FOR STORING, RETRIEVING, RETAINING, AND DISPOSING OF RECORDS IN THE SYSTEM:

STORAGE:

Electronic databases, with restricted access, and hard copy files, kept in a locked cabinet.

RETRIEVABILITY:

Scholarship recipient files will be alphabetized by recipient's last name, and the student databases can be searched by last name.

SAFEGUARDS:

Buildings employ security systems. Records are maintained in areas accessible only to authorized personnel who are properly screened and cleared.

RETENTION AND DISPOSAL:

Records retention and disposal is in accordance with the agency's records disposition schedule, the NOAA Records Schedule Chapter: http://www.corporateservices.noaa.gov/audit/records_management/schedules/chapter_400_finance.pdf

SYSTEM MANAGER(S) AND ADDRESS:

For records at location a.: Program Administrator, Dr. Nancy Foster Scholarship Program, National Ocean Service, Office of the Assistant Administrator, 1305 East-West Highway, 13th Floor, Silver Spring, MD 20910-3281.

For records at location b.: Deputy Director of NOAA Education, Educational Partnership Program and Ernest F. Hollings Undergraduate Scholarship Program, Office of Education, 1315 East-West Highway, 10th Floor, Silver Spring, MD, 20910-3281.

For records at location c.: Administrative Assistant, Mendy Willis, National Marine Fisheries Service Recruitment, Training, Research Program at the University of Florida, P.O. Box 110240, Gainesville, FL 32611.

NOTIFICATION PROCEDURE:

Information may be obtained from:

For records at location a.: Program Administrator, Dr. Nancy Foster Scholarship Program, National Ocean Service, Office of the Assistant Administrator, 1305 East-West Highway, 13th Floor, Silver Spring, MD 20910-3281.

For records at location b.: Deputy Director of NOAA Education, Educational Partnership Program and Ernest F. Hollings Undergraduate Scholarship Program, Office of Education, 1315 East-West Highway, 10th Floor, Silver Spring, MD 20910-3281.

For records at location c: Administrative Assistant, Mendy Willis, National Marine Fisheries Service Recruitment, Training, Research Program at the University of Florida, P.O. Box 110240, Gainesville, FL 32611.

RECORD ACCESS PROCEDURES:

Requests from individuals should be addressed to:

For records at location a.: Program Administrator, Dr. Nancy Foster Scholarship Program, National Ocean Service, Office of the Assistant Administrator, 1305 East-West Highway, 13th Floor, Silver Spring, MD 20910-3281.

For records at location b.: Deputy Director of NOAA Education, Educational Partnership Program and Ernest F. Hollings Undergraduate Scholarship Program, Office of Education, 1315 East-West Highway, 10th Floor, Silver Spring, MD 20910-3281.

For records at location c.: Administrative Assistant, Mendy Willis, National Marine Fisheries Service Recruitment, Training, Research Program at the University of Florida, P.O .Box 110240, Gainesville, FL 32611.

CONTESTING RECORD PROCEDURES:

The Department's rules for access, for contesting contents, and for appealing initial determination by the individual concerned appear in 15 CFR part 4. Use addresses in the RECORDS ACCESS PROCEDURES section above for desired locations.

RECORD SOURCE CATEGORIES:

Scholarship and grant applicants and recipients.

EXEMPTIONS CLAIMED FOR THE SYSTEM:

None.

Dated: September 9, 2015.
Michael J. Toland,
Department of Commerce, Acting Freedom of Information and Privacy Act Officer.

[FR Doc. 2015-23133 Filed 9-16-15; 8:45 am]

BILLING CODE 3510-22-P